DEPARTMENT OF HOMELAND SECURITY

Coast Guard

33 CFR Part 100

[Docket No. USCG-2010-1024]

Olympia Harbor Days Tug Boat Races, Budd Inlet, WA

AGENCY: Coast Guard, DHS.

ACTION: Notice of enforcement of regulation.

SUMMARY: The Coast Guard will enforce the Special Local Regulation, Olympia Harbor Days Tug Boat Races, Budd Inlet, WA from 11:00 a.m. through 8:00 p.m. on September 6, 2015. This action is necessary to restrict vessel movement within the specified race area immediately prior to, during, and immediately after racing activity in order to ensure the safety of participants, spectators and the maritime public. Entry into, transit through, mooring or anchoring within the specified race area is prohibited unless authorized by the Captain of the Port, Puget Sound or Designated Representatives.

DATES: The regulations in 33 CFR 100.1309 will be enforced from 11:00 a.m. through 8:00 p.m. on September 6, 2015.

FOR FURTHER INFORMATION CONTACT: If you have questions on this document, call or email Petty Officer Ryan Griffin, Sector Puget Sound Waterways Management Division, Coast Guard; telephone 206-510-7888, email SectorPugetSoundWWM@uscg.mil.

SUPPLEMENTARY INFORMATION: The Coast Guard is providing notice of enforcement of the Special Local Regulation for Olympia Harbor Days Tug Boat Races, Budd Inlet, WA in 33 CFR 100.1309 on September 6, 2015, from 11:00 a.m. to 8:00 p.m.

The following area is specified as a race area: All waters of Budd Inlet, WA the width of the navigation channel south of a line connecting the following points: 47°05.530′ N. 122°55.844′ W. and 47°05.528′ N. 122°55.680′ W. until reaching the northernmost end of the navigation channel at a line connecting the following points: 47°05.108′ N. 122°55.799′ ″ W. and 47°05.131′ N. 122°55.659′ W. then southeasterly until reaching the southernmost entrance of the navigation channel at a line connecting the following points: 47°03.946′ N. 122°54.577′ W., 47°04.004′ N. 122°54.471′ W.

Under the provisions of 33 CFR 100.1309, the regulated area shall be closed immediately prior to, during and immediately after the event to all persons and vessels not participating in the event and authorized by the event sponsor.

This document is issued under authority of 33 CFR 100.1309 and 5 U.S.C. 552(a). In addition to this document in the Federal Register, the Coast Guard will provide the maritime community with advance notification of this enforcement period via the Local Notice to Mariners. If the Captain of the Port determines that the regulated area need not be enforced for the full duration stated in this document, he may use a Broadcast Notice to Mariners to grant general permission to enter the regulated area.

Dated: August 25, 2015.
M.W. Raymond,
Captain, U.S. Coast Guard, Captain of the Port, Puget Sound.

[FR Doc. 2015-22024 Filed 9-3-15; 8:45 am]

BILLING CODE 9110-04-P